DEPARTMENT OF ENERGY

Federal Energy Regulatory Commission

[Docket No. IC22-25-000]

Commission Information Collection Activities (FERC-725P1); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-725P1 (Mandatory Reliability Standards: PRC-005-6 Reliability Standard).

DATES: Comments on the collection of information are due October 3, 2022.

ADDRESSES: You may submit your comments (identified by Docket No. IC22-25-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only, Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725P1 (Mandatory Reliability Standards: PRC-005-6 Reliability Standard).

OMB Control No.: 1902-0280.

Abstract: The Commission requires the information collected by the FERC-725P1 to implement the statutory provisions of section 215 of the Federal Power Act (FPA). On August 8, 2005, Congress enacted into law the Electricity Modernization Act of 2005, which is Title XII, Subtitle A, of the Energy Policy Act of 2005 (EPAct 2005). EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.

On February 3, 2006, the Commission issued Order No. 672, implementing section 215 of the FPA. Pursuant to Order No. 672, the Commission certified one organization, North American Electric Reliability Corporation (NERC), as the ERO. The Reliability Standards developed by the ERO and approved by the Commission apply to users, owners and operators of the Bulk-Power System as set forth in each Reliability Standard.

On November 13, 2015, the North American Electric Reliability Corporation filed a petition for Commission approval of proposed Reliability Standard PRC-005-6 (Protection System, Automatic Reclosing, and Sudden Pressure Relaying Maintenance).

NERC also requested approval of the proposed implementation plan for PRC-005-6, and the retirement of previous versions of Reliability Standard PRC-005.

NERC explained in its petition that Reliability Standard PRC-005-6 represented an improvement upon the most recently-approved version of the standard, PRC-005-4.

FERC approved the proposed Reliability Standard PRC-005-6 on December 18, 2015.

Type of Respondent: Transmission Owner (TO), Distribution Provider (DP), and Generator Owners (GOs).

Estimate of Annual Burden: ¹ The Commission estimates the annual public reporting burden for the information collection as: ²

¹ “Burden” is the total time, effort, or financial resources expended by persons to generate, maintain, retain, or disclose or provide information to or for a Federal agency. For further explanation of what is included in the information collection burden, refer to Title 5 Code of Federal Regulations 1320.3.

² Total number of responses have increased due an accurate estimate in burden and due to an increase in review and adjustment of existing program for reclosing relays and associated equipment.

³ Entities affected by the PRC-005-6 Reliability Standard are registered to serve any of the following roles: TO=Transmission Owner; GO=Generator Owner; DP=Distribution Provider. Some entities are registered to serve multiple roles.

⁴ The estimated hourly cost (salary plus benefits) provided in this section is based on the salary figures (http://www.bls.gov/oes/current/naics2_22.htm) and benefits (http://www.bls.gov/news.release/ecec.nr0.htm) for May 2021 posted by the Bureau of Labor Statistics for the Utilities sector. The hourly estimates for salary plus benefits are $72.15/hour based on the Electrical Engineering career (Occupation Code: 17-2071).

FERC-725P1: Mandatory Reliability Standards: PRC-005-6 ³
| Number of respondents | Annual number of responses per respondent | Total number of responses | Average burden hrs. & cost per response ⁴ | Total annual burden hours & total annual cost
| (1) | (2) | (1) * (2) = (3) | (4) | (3) * (4) = (5)
PRC-005-6 Reliability Standard | TO (332) | 1 | 332 | 2 hrs.; $144.30 | 664 hrs.; $47,907.60.
| GO (1094) | 1 | 1094 | 2 hrs.; $144.30 | 2,188 hrs.; *$157,864.20.
| DP (302) | 1 | 302 | 2 hrs.; $144.30 | 604 hrs.; $43,578.60.
|  |  | 1,728 |  | 3,456 hrs.; $249,350.40.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 28, 2022.
Kimberly D. Bose,
Secretary.

[FR Doc. 2022-16588 Filed 8-2-22; 8:45 am]

BILLING CODE 6717-01-P